DEPARTMENT OF ENERGY

Federal Energy Regulatory Commission

Notice of Application Accepted for Filing and Soliciting Motions to Intervene and Protests

March 29, 2001.

Take notice that the following hydroelectric application has been filed with the Commission and is available for public inspection:

a. Type of Application: New Major License 5 Megawatts or Less.

b. Project No.: P-28535-005.

c. Date filed: October 27, 2000.

d. Applicant: New York State Electric & Gas Corporation.

e. Names of Project: Rainbow Falls Hydroelectric Project.

f. Location: On the Ausable River, within the townships of Ausable and Chesterfield, in Clinton and Essex Counties, New York. This project does not utilize any federal lands.

g. Filed Pursuant to: Federal Power Act, 16 U.S.C. 791(a)-825(r).

h. Applicant Contact: Ms. Carol Howland, Project Environmental Specialist, New York State Electric & Gas Corporation, Corporate Drive—Kirkwood Industrial Park, P.O. Box 5224, Binghamton, NY 13902-5224, or call (607) 762-8881.

i. FERC Contact: Jarrad Kosa at (202) 219-2831 or via e-mail at jarrad.kosa@ferc.fed.us.

j. Deadline for Filing Motions to Intervene and Protest: 60 days from the issuance date of this notice.

All documents (original and eight copies) should be filed with: David P. Boergers, Secretary, Federal Energy Regulatory Commission, 888 First Street, NE, Washington, DC 20426. Comments, Protests and motions to intervene may be filed electronically via the internet in lieu of paper. See 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of Environmental Analysis: This application is not ready for environmental analysis at this time.

l. Description of the Project: The existing Rainbow Falls Hydroelectric Project consists of: (1) a 19-acre reservoir having a gross storage capacity of 234 acre-feet at 310 m.s.l.; (2) a 19-foot-high by 435-foot-long concrete gravity dam having (i) 3-foot-high flashboards and (ii) a concrete 345-foot-long spillway between the dam abutments with an average height of 16 feet and an average width of 21 feet; (3) a 77-foot-long by 22-foot to 49-foot-wide forebay intake structure, and (4) a 20-foot-long by 16-foot-wide sluiceway section containing a gate well located at the west end of the spillway section; (5) a 260-foot-long by 25.5-foot-deep concrete power canal leading to (6) a stone rack house containing trash racks and rakes; (7) two 6-foot-in-diameter steel riveted penstocks extending 401 feet and 411 feet, respectively, from the rack house to a (8) 67-foot-long by 40-foot-wide reinforced concrete powerhouse, housing two 1,320-kW generating units for a total installed capacity of 2,640-kW; (9) a 200-foot-long, 2.3-kV transmission line; and (10) appurtenant facilities. The project has an annual average generation of 13,991,000 kilowatt-hour (kWh). The purpose of the project is to produce electric power generation for distribution on the licensee's transmission and distribution facilities.

m. Locations of the application: A copy of the application is available for inspection and reproduction at the Commission's Public Reference Room, located at 888 First Street, NE, Room 2A, Washington, DC 20246, or by calling (202) 208-1371. This filing may be viewed on the web at http://www.ferc.fed.us/online/rims.htm (call (202) 208-2222 for assistance). A copy is also available for inspection and reproduction at the address in item h. above.

n. Individuals desiring to be included on the Commission's mailing list should so indicate by writing to the Secretary of the Commission.

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—The application is not ready for environmental analysis at this time; therefore, the Commission is not now requesting comments, recommendations, terms and conditions, or prescriptions.

When the application is ready for environmental analysis, the Commission will issue a public notice requesting comments, recommendations, terms and conditions, or prescriptions.

All filings must: (1) Bear in all capital letters the title “PROTESTS” or “MOTION TO INTERVENE”; (2) set forth in the heading the name of the applicant and the project number of the application to which the filing responds; (3) furnish the name, address, and telephone number of the person protesting or intervening; and (4) otherwise comply with the requirements of 18 CFR 385.2001 through 385.2005. Agencies may obtain copies of the application directly from the applicant. Any of these documents must be filed by providing the original and the number of copies required by the Commission's regulations to: The Secretary, Federal Energy Regulatory Commission, 888 First Street, NE., Washington, DC 20426. An additional copy must be sent to Director, Division of Environmental and Engineering Review, Office of Energy Projects, Federal Energy Regulatory Commission, at the above address. A copy of any protest or motion to intervene must be served upon each representative of the applicant specified in the particular application.

David P. Boergers,
Secretary.

[FR Doc. 01-8217 Filed 4-3-01; 8:45 am]

BILLING CODE 6717-01-M